DEPARTMENT OF HEALTH AND HUMAN SERVICES

National Institutes of Health

Request for Information (RFI) on Recommendations on Re-Envisioning U.S. Postdoctoral Research Training and Career Progression Within the Biomedical Research Enterprise

AGENCY: National Institutes of Health, HHS.

ACTION: Request for information.

SUMMARY: The National Institutes of Health (NIH) is issuing a follow-up Request for Information (RFI) as part of its effort to gauge feedback from the biomedical research community to inform the implementation of recommendations from the Advisory Committee to the Director Working Group on Re-envisioning NIH-Supported Postdoctoral Training.

DATES: The RFI is open for public comment for a period of 90 days and will close at 11:59 p.m. (EST) on October 23, 2024. Please ensure prompt response to this RFI to ensure consideration.

ADDRESSES: Submissions can be sent electronically to: (https://rfi.grants.nih.gov/?s=6660cc1aa1264f88920cf122). Responses to this RFI are voluntary and may be submitted anonymously. You may voluntarily include your name and contact information with your response. If you choose to provide NIH with this information, NIH will not share your name and contact information outside of NIH unless required by law. Responses must be received by October 23, 2024, 11:59 p.m. to ensure consideration.

FOR FURTHER INFORMATION CONTACT: Questions about this request for information should be directed to: Ericka M. Boone, Director, Division of Biomedical Research Workforce, at (301) 496-0180 or reenvisionpostdoc@nih.gov.

SUPPLEMENTARY INFORMATION: The National Institutes of Health (NIH) is seeking feedback from the biomedical research community on the implementation of specific recommendations proposed by the Advisory Committee to the Director (ACD) in accordance with 42 U.S.C. 217a, section 222 of the Public Health Service Act, for Re-envisioning NIH-supported Postdoctoral Training. This Request for Information (RFI) aims to gather insights and suggestions to inform the effective implementation of recommendations across NIH-funded research institutions.

Background Information

NIH established an Advisory Committee to the Director Working Group on Re-Envisioning NIH-Supported Postdoctoral Training (https://acd.od.nih.gov/working-groups/postdocs.html) (ACD Postdoctoral WG) to explore the status of the postdoctoral training system, identify and understand critical factors and issues relating to the perceived decline in the number of postdoctoral scholars, and to provide recommendations to address these factors. As part of this ACD-led effort, community input on the status of the postdoctoral training system was encouraged through four listening sessions and through a February 2023 RFI: Re-envisioning U.S. Postdoctoral Research Training and Career Progression within the Biomedical Research Enterprise (https://grants.nih.gov/grants/guide/notice-files/NOT-OD-23-084.html). Input was received from various members of the biomedical research community, including early-stage investigators, biomedical faculty, training directors, postdoctoral and graduate student office leaders, biotech/biopharma industry scientists, and research education program advocates. Results from the public listening sessions (https://acd.od.nih.gov/documents/IMOD_Postdoc_Listening_Sessions_summary.pdf) and the previously published RFI on Re-envisioning U.S. Postdoctoral Research Training and Career Progression within the Biomedical Research Enterprise released on February 14, 2023, and the follow-up report (https://acd.od.nih.gov/documents/RFI_Postdocs_Report_2023.pdf) captured a wide range of topics related to postdoctoral scholar issues and challenges, including lack of adequate salary and standard benefits, poor job satisfaction, lack of opportunities in academic careers, negative work culture and the need for high-quality mentorship. Additionally, respondents provided diverse suggestions for changes to existing NIH policies, resources, and programs, including those expansion of NIH funding opportunities that can address postdoctoral scholar research and career development goals. Based on feedback, the ACD Postdoctoral WG issued six (6) high-level recommendations:

• Recommendation 1: Increase pay and benefits for all NIH-supported postdoctoral scholars.

• Recommendation 2: Create and expand mechanisms to support the full talent pool of postdoctoral scholars.

• Recommendation 3: Facilitate the transition of postdoctoral scholars into the next career stage, including roles beyond academic faculty.

• Recommendation 4: Promote training and professional development of postdoctoral scholars and their mentors.

• Recommendation 5: Support safe and diverse perspectives and research environments within institutional research programs.

• Recommendation 6: Improve means to measure and share postdoctoral scholars' career progression.

Please see the full ACD Postdoctoral Scholar WG report at— https://acd.od.nih.gov/documents/presentations/12152023_Postdoc_Working_Group_Report.pdf.

Information Requested

As a part of NIH's ongoing efforts to better support the postdoctoral scholar workforce, the purpose of this RFI is to solicit public input on how NIH might most effectively implement certain recommendations developed by the ACD WG to address current challenges affecting the postdoctoral trainee community. NIH is particularly interested in receiving input from trainees (e.g., graduate students, postdocs), as well as early-stage investigators, biomedical faculty, training directors, postdoctoral and graduate student office leaders, biotech/biopharma industry scientists, and research education program advocates. NIH encourages organizations (e.g., patient advocacy groups, professional societies) to submit a single response reflective of the views of the organization or its membership. While NIH is requesting input on the specific recommendations listed below, we continue to explore the implementation of all other recommendations submitted as a part of the ACD WG Report. Where possible, responses should include specific suggestions, evidence-based strategies, and any relevant data or experiences that can inform the implementation process.

Recommendation 1.3: Limit the total number of years a person can be supported by NIH funds in a postdoctoral position to no more than 5 years.

Description: Input received by the ACD WG, via public comment and listening sessions, identified that ill-defined, excessively long postdoctoral appointments are a key career development obstacle delaying career progression for postdoctoral scholars. While current NIH policy states that individuals may receive no more than 3 years of aggregate National Research Service Award (NRSA) support at the postdoctoral level, there is no limitation on aggregate support for postdoctoral scholars supported on other types of NIH grants. To further support NIH's continued efforts to promote greater structure to the postdoctoral training process and promote more timely transition of postdoctoral scholars into their next career stages, the ACD WG has recommended that NIH funding should not be used to support postdoctoral scholars beyond five years, including time spent in different host institutions and any changes in funding support. Beyond five years, postdoctoral scholars must be transitioned to new positions, with defined roles, responsibilities and compensation that are beyond the role of postdoctoral scholar. While research project timelines differ across fields, setting a uniform upper limit on years of support is intended to reduce the time that postdoctoral scholars spend in the postdoc phase and encourage a more timely career transition.

Input Requested:

• Describe any potential benefits, opportunities, challenges and/or consequences to the postdoctoral workforce or the extramural research community if NIH were to limit total years of NIH-supported funding support for postdoctoral scholars.

• Please describe any existing NIH or extramural institutional policies that could pose challenges to the implementation of a policy to limit aggregate NIH funding support for postdoctoral scholars.

• Please describe any key NIH or extramural institutional policies, processes, or resources that should be developed, improved, or expanded to address any potential challenges associated with limiting aggregate funding support for postdoctoral scholars.

• What mechanisms should be put into place by extramural institutions to support transitions for postdoctoral scholars nearing the end of the five-year period?

Recommendation 2.2: Revise the K99/R00 mechanism to focus on ideas and creativity over productivity.

Description: The NIH Pathway to Independence Award (K99/R00) was created to assist postdoctoral researchers to complete needed, mentored training and promote the timely transition to independent tenure-track (or equivalent) faculty positions while also providing research funding to support to the launch of their independent research careers. Currently, K99 applicants can have no more than 4 years postdoctoral research experience at the time of application to be eligible to apply. The research community expressed concern that K99 applications containing more evidence of demonstrated research accomplishment and productivity (lots of research results and publications) score better in review and are more likely to be funded. This perception may drive early career investigators to remain in the postdoctoral phase longer in order to generate more data. To facilitate more rapid transition of postdoctoral scholars that do not require more extended periods of mentored research training and focus review of K99 applications on creative ideas and research potential (vs productivity) of applicants, the ACD WG recommended that the K99/R00 eligibility window be limited to the first 2 years of postdoctoral experience and that NIH should adapt review and award processes and policies to ensure a broader range of early career investigators benefit from the award.

Input Requested:

• Describe any potential short- and long-term benefits and/or challenges to the postdoctoral workforce that may result from limiting the K99/R00 eligibility timeframe to no more than 2 years of postdoctoral experience.

• How should the K99/R00 mechanism and review criteria be revised to better emphasize creative ideas and innovation over research productivity? What specific criteria or metrics should be used to evaluate creativity and potential impact of applicants' research proposals?

• Provide input on key NIH and extramural institutional policies, processes or resources that may need to be developed or revised to ensure that changes to K99/R00 program eligibility do not negatively impact access to these awards to a broader range of postdoctoral scholars.

Recommendation 4: Promote training and professional development of postdoctoral scholars and their mentors.

Description: Career and professional development training (which can include leadership, teaching, mentorship, grant writing, lab management and other skills) are critical components of the postdoctoral experience and are defining elements of academic science training. Public comments received by the ACD postdoc RFI and listening sessions indicate that postdoc scholars have difficulty pursuing these training opportunities due to pressure to focus solely on research during work hours. Based on this feedback, the NIH ACD WG recommended that institutions should: (1) ensure that postdoctoral scholars receive career and professional development opportunities as an integrated, measured component of the postdoctoral experience that occupies a minimum average of 10% of a postdoctoral scholar's effort, (2) create policies and resources to ensure equitable access to this training and (3) require regular training and for individuals serving in the mentor role to postdoctoral scholars mentor (and for postdocs themselves).

Input Requested:

• Provide suggestions/strategies for how NIH and extramural institutions can ensure that career and professional development training becomes an integrated and measured component of the postdoctoral experience. What policies and resources should institutions establish to ensure equitable access to career and professional development training for all postdoctoral scholars? How can institutions address barriers to participation, such as limited availability of training programs or conflicts with research obligations?

• What specific skills and competencies are essential for individuals serving in the mentor role for postdoctoral scholars? How should institutions require and support mentor training to ensure the effective mentorship of postdoctoral scholars? Describe any necessary resources required by investigators and institutions to support the implementation of required training opportunities for mentors

• Are there opportunities for collaboration between institutions, funding agencies, and professional organizations to enhance career and professional development opportunities for postdoctoral scholars? How can partnerships with industry, government agencies, and non-profit organizations contribute to the enrichment of postdoctoral training experiences?

Submitting a Response

Comments should be submitted electronically to the following web page: (https://rfi.grants.nih.gov/?s=6660cc1aa1264f88920cf122).

This RFI is for planning purposes only and should not be construed as a policy, solicitation for applications, or as an obligation on the part of the Government to provide support for any ideas identified in response to it. Please note that the Government will not pay for the preparation of any information submitted or for its use of that information.

Please do not include any proprietary, classified, confidential, or sensitive information in your response. Responses will be compiled, and a content analysis will be shared publicly after the close of the comment period. The NIH may use information gathered by this Notice to inform future policy development.

Dated: July 19, 2024.
Lawrence Tabak,
Principal Deputy Director, National Institutes of Health.

[FR Doc. 2024-16649 Filed 7-26-24; 8:45 am]

BILLING CODE 4140-01-P